FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011275-031.

Title: Australia and New Zealand-United States Discussion Agreement.

Parties: ANL Singapore Pte Ltd.; CMA CGM, S.A.; Hamburg-Süd KG; and Hapag-Lloyd AG.

Filing Party: Wayne R. Rohde, Esq.; Cozen O'Connor LLP; 1627 I Street NW.; Suite 1100; Washington, DC 20006-4007.

Synopsis: The amendment deletes A.P. Moller-Maersk AS, trading under the name of Maersk Line, as party to the Agreement.

Agreement No.: 011463-007.

Title: East Coast of North America to West Coast of South America and Caribbean Cooperative Working Agreement.

Parties: Compania Sud Americana de Vapores S.A.; Hamburg-Süd; and Compania Chilena de Navagacion Interoceania, S.A.

Filing Party: Walter M. Lion, Esq.; McLaughlin & Stern, LLP; 260 Madison Avenue; New York, NY 10018.

Synopsis: The amendment would revise terms and conditions of the Agreement, reduce the number of vessels operated under the agreement, increase the vessel capacity, and revise the space allocations of the parties.

Agreement No.: 011730-004.

Title: GWF/Dole Space Charter and Sailing Agreement.

Parties: Dole Ocean Cargo Express, Inc. and Great White Fleet (US) Ltd.

Filing Party: Wade S. Hooker, Esq., 211 Central Park West, New York, NY 10024.

Synopsis: The amendment changes the name of Great White Fleet (US) Ltd. to Great White Fleet Liner Services Ltd.

Agreement No.: 011961-011.

Title: The Maritime Credit Agreement.

Parties: Alianca Navegacao e Logistica Ltda. & Cia; A.P. Moller-Maersk A/S trading under the name of Maersk Line; China Shipping Container Lines Co. Ltd.; CMA CGM A.A.; Companhia Libra De Navegacao; Compania Sud American De Vapores, S.A.; COSCO Container Lines Co., Limited; Dole Ocean Cargo Express; Hamburg Sudamerikanische Dampfschifffahrts-Gesellschaft KG; Hanjin Shipping Co., Ltd; Hoegh Autoliners A/S; Hyundai Merchant Marine Co., Ltd.; Independent Container Line Ltd.; Compania Libra de Navegacion; Uruguay S.A.; Kawasaki Kisen Kaisha, Ltd.; Nippon Yusen Kaisha; Norasia Container Lines Limited; Safmarine Container Liners N.V.; United Arab Shipping Company (S.A.G.); Wallenius Wilhelmsen Logistics AS; YangMing Marine Transport Corp. and Zim Integrated Shipping Services, Ltd.

Filing Party: Wayne R. Rohde, Esq.; Cozen O'Connor LLP; 1627 I Street NW.; Suite 1100; Washington, DC 20006-4007.

Synopsis: Adds A.P. Moller-Maersk A/s trading under the name Maersk Line as a party to the Agreement.

Agreement No.: 012160.

Title: Grand Alliance/Hanjin Vessel Sharing Agreement.

Parties: Hapag-Lloyd AG; Nippon Yusen Kaisha; Orient Overseas Container Line Limited; and Hanjin Shipping Co., Ltd.

Filing Party: Wayne R. Rohde, Esquire; Cozen O'Connor; 1627 I Street NW., Suite 1100; Washington, DC 20006-4007.

Synopsis: The agreement authorizes the parties to share vessels in the trades between Japan and the U.S. Pacific Coast, and between the U.S. Pacific Coast and the Middle East and Asia.

Agreement No.: 012161.

Title: Siem Car Carrier Pacific AS/Hyundai Glovis Co., Ltd. Space Charter Agreement.

Parties: Siem Car Carrier Pacific AS; Hyundai Glovis Co., Ltd.

Filing Party: Ashley W. Craig; Venable LLP; 575 Seventh Street NW., Washington, DC 20004.

Synopsis: The agreement authorizes the parties to engage in a limited range of cooperative activities, including, but not limited to, vessel space chartering in the trade between The U.S. West Coast and South Korea.

Agreement No.: 012162.

Title: Hoegh Autoliners/Hyundai Glovis Space Charter Agreement.

Parties: Hoegh Autoliners AS; Hyundai Glovis Co. Ltd.

Filing Party: Wayne R. Rohde, Esquire; Cozen O'Connor; 1627 I Street, NW., Suite 1100; Washington, DC 20006-4007.

Synopsis: The agreement authorizes Hoegh to charter space to Hyundai Glovis in the trade from South Korea to the U.S. Atlantic Coast.

By order of the Federal Maritime Commission.
Dated: March 16, 2012.
Rachel E. Dickon,
Assistant Secretary.

[FR Doc. 2012-6826 Filed 3-21-12; 8:45 am]

BILLING CODE P